DEPARTMENT OF HEALTH AND HUMAN SERVICES

Indian Health Service

Notice of Purchased/Referred Care Delivery Area Redesignation for the Pokagon Band of Potawatomi Indians of Michigan and Indiana

AGENCY: Indian Health Service, Department of Health and Human Services.

ACTION: Notice.

SUMMARY: Notice is hereby given that the Indian Health Service (IHS) has decided to expand the geographic boundaries of the Purchased/Referred Care Delivery Area (PRCDA) for the Pokagon Band of Potawatomi Indians of Michigan and Indiana (“Pokagon Band”) to include the counties of Kalamazoo, Kent, and Ottawa in the State of Michigan. The final PRCDA for the Pokagon Band now includes the Michigan counties of Allegan, Berrien, Cass, Kalamazoo, Kent, Ottawa, and Van Buren, and the Indiana counties of Elkhart, Kosciusko, La Porte, Marshall, St. Joseph, and Starke. The sole purpose of this expansion is to authorize additional Pokagon Band members and beneficiaries to receive Purchased/Referred Care (PRC) services.

DATES: This expansion is effective as of the date of publication of this notice.

ADDRESSES: This notice can be found at https://www.federalregister.gov. Written requests for information should be delivered to: CAPT John Rael, Director, Office of Resource Access and Partnerships, Indian Health Service, 5600 Fishers Lane, Mail Stop 10E85C, Rockville, MD 20857.

FOR FURTHER INFORMATION CONTACT: CAPT John Rael, Director, Office of Resource Access and Partnerships by email at John.Rael@ihs.gov, or by phone at (301) 443-0969 (this is not a toll-free number).

SUPPLEMENTARY INFORMATION: The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC but only potential eligibility for services. Services needed, but not available at an IHS/Tribal facility, are provided under the PRC program depending on the availability of funds, the relative medical priority of the services to be provided, and the actual availability and accessibility of alternate resources in accordance with the regulations.

The regulations at 42 CFR part 136, subpart C provide that, unless otherwise designated, a PRCDA shall consist of a county which includes all or part of a reservation and any county or counties which have a common boundary with the reservation. 42 CFR 136.22(a)(6). The regulations also provide that after Consultation with the Tribal governing body or bodies on those reservations included within the PRCDA, the Secretary may, from time to time, redesignate areas within the United States for inclusion in or exclusion from a PRCDA. 42 CFR 136.22(b). The regulations require that certain criteria must be considered before any redesignation is made. The criteria are as follows:

(1) The number of Indians residing in the area proposed to be so included or excluded;

(2) Whether the Tribal governing body has determined that Indians residing in the area near the reservation are socially and economically affiliated with the Tribe;

(3) The geographic proximity to the reservation of the area whose inclusion or exclusion is being considered; and

(4) The level of funding which would be available for the provision of PRC.

Additionally, the regulations require that any redesignation of a PRCDA be made in accordance with the procedures of the Administrative Procedure Act(5 U.S.C. 553). 42 CFR 136.22(c). In compliance with this requirement, the IHS published a notice of proposed redesignation and requested public comments on May 17, 2024 (89 FR 43415). The IHS did not receive any comments in response to the notice of proposed redesignation.

In support of this expansion, the IHS makes the following findings:

1. By expanding the PRCDA to include Kalamazoo, Kent, and Ottawa Counties in the State of Michigan, the Pokagon Band's PRC-eligible population will increase by an estimated 537 Tribal citizens.

2. The Tribal citizens and certain other PRC-eligible individuals within the expanded PRCDA are socially and economically affiliated with the Pokagon Band based on a Tribal resolution in which the Pokagon Band Tribal Council identified its intent to expand the PRCDA to include Kalamazoo, Kent, and Ottawa Counties in Michigan, and stated that the Tribal citizens and certain other individuals residing in such areas are socially and economically affiliated with the Pokagon Band.

3. The expanded PRCDA counties form a contiguous area with the existing PRCDA, and Pokagon Band citizens reside in each of the expansion counties. For these reasons, the IHS has determined that the expansion counties are geographically proximate, meaning “on or near”, to the Pokagon Band's reservation.

4. The Pokagon Band has indicated that its PRC program can continue providing the same level of care to the expanded PRC-eligible population. No additional financial resources will be allocated by the IHS to the Pokagon Band to provide services to the Pokagon Band's PRC-eligible population as a result of this PRCDA expansion.

An updated listing of the PRCDAs for all federally-recognized Tribes may be accessed via a link on the IHS PRCDA Expansion website (https://www.ihs.gov/prc/prcda-expansion).

Public Comments: The IHS did not receive any comments in response to the notice of proposed expansion.

Roselyn Tso,
Director, Indian Health Service.

[FR Doc. 2024-27457 Filed 11-21-24; 8:45 am]

BILLING CODE 4166-14-P